DEPARTMENT OF LABOR

Office of the Secretary

Agency Information Collection Activities; Submission for OMB Review; Comment Request; Requirements for the Occupational Safety and Health Administration Training Institute Education Centers Program and Occupational Safety and Health Administration Outreach Training Program

ACTION: Notice.

SUMMARY: On October 31, 2013, the Department of Labor (DOL) will submit the Occupational Safety and Health Administration (OSHA) sponsored information collection request (ICR) revision titled, “Requirements for the Occupational Safety and Health Administration Training Institute Education Centers Program and Occupational Safety and Health Administration Outreach Training Program,” to the Office of Management and Budget (OMB) for review and approval for use in accordance with the Paperwork Reduction Act (PRA) of 1995 (44 U.S.C. 3501 et seq.).

DATES: Submit comments on or before November 30, 2013.

ADDRESSES: A copy of this ICR with applicable supporting documentation; including a description of the likely respondents, proposed frequency of response, and estimated total burden may be obtained free of charge from the RegInfo.gov Web site at http://www.reginfo.gov/public/do/PRAViewICR?ref_nbr=201310-1218-001 (this link will only become active on November 1, 2013) or by contacting Michel Smyth by telephone at 202-693-4129 (this is not a toll-free number) or sending an email to DOL_PRA_PUBLIC@dol.gov.

Submit comments about this request to the Office of Information and Regulatory Affairs, Attn: OMB Desk Officer for DOL-OSHA, Office of Management and Budget, Room 10235, 725 17th Street NW., Washington, DC 20503, Fax: 202-395-6881 (this is not a toll-free number), email: OIRA_submission@omb.eop.gov. Commenters are encouraged, but not required, to send a courtesy copy of any comments to the U.S. Department of Labor-OASAM, Office of the Chief Information Officer, Attn: Information Management Program, Room N1301, 200 Constitution Avenue NW., Washington, DC 20210, email: DOL_PRA_PUBLIC@dol.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: Consistent with Occupational Safety and Health Act (OSH Act) section 21 authority, the OSHA created two educational programs—the OSHA Training Institute (OTI) Education Centers Program and the OSHA Outreach Training Program. To be a participant in the OTI Education Centers Program or the Outreach Training Program, an individual/organization must provide the OSHA with certain information. The requested information is necessary to evaluate the applicant organization and to implement, oversee, and monitor the OTI Education Centers and Outreach Training Programs, courses, and trainers. The information collection requirements include the following: Application to become an OSHA Training Institute Education Center (OTI Education Center); OTI Education Centers Monthly Summary Report for the OTI Education Centers and the Outreach Training Program Monthly Summary Report; Statement of Compliance with Outreach Training Program Requirements; Outreach Training Program Report Forms (includes Construction, General Industry, Maritime, and Disaster Site); Online Outreach Training Program Report; Active Trainer List; OSHA Training Institute Student Survey (OSHA Form 49 11-05 Edition) (OMB 1225-0059); Attendance Documentation for OTI Education Centers; Outreach Online Training Certification Statement; Instructor and Staff Resumes (this includes anyone who may be assigned to conduct OSHA classes, contractor, subcontractor, employee, adjunct professor, etc.; and Course Material, upon Request by the OSHA from OTI Education Centers. The ICR has been classified as a revision, because the OSHA seeks to add two forms recording (1) outreach trainer audits and (2) activities outside of an OSHA region where the education center is located.

These information collections are subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1218-0262.

OMB authorization for an ICR cannot be for more than three (3) years without renewal, and the current approval for this collection is scheduled to expire on October 31, 2013; however, it should be noted that existing information collection requirements submitted to the OMB receive a month-to-month extension while they undergo review. New requirements would only take effect upon OMB approval. For additional substantive information about this ICR, see the related notice published in the Federal Register on August 5, 2013 (78 FR 47419).

Interested parties are encouraged to send comments to the OMB, Office of Information and Regulatory Affairs at the address shown in the ADDRESSES section by November 30, 2013. In order to help ensure appropriate consideration, comments should mention OMB Control Number 1218-0262. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Requirements for the Occupational Safety and Health Administration Training Institute Education Centers Program and Occupational Safety and Health Administration Outreach Training Program.

OMB Control Number: 1218-0262.

Affected Public: Federal Government; State, Local, and Tribal Governments; and Private Sector—business or other for profit and not for profit institutions.

Total Estimated Number of Respondents: 13,027.

Total Estimated Number of Responses: 47,177.

Total Estimated Annual Burden Hours: 11,754.

Total Estimated Annual Other Costs Burden: $0.

Dated: October 28, 2013.
Michel Smyth,
Departmental Clearance Officer.

[FR Doc. 2013-25920 Filed 10-30-13; 8:45 am]

BILLING CODE 4510-26-P